NUCLEAR REGULATORY COMMISSION

[NRC-2016-0132]

Information Collection: NRC Form 314, Certificate of Disposition of Materials

AGENCY: Nuclear Regulatory Commission.

ACTION: Extension of existing information collection; request for comment.

SUMMARY: The U.S. Nuclear Regulatory Commission (NRC) invites public comment on the extension of Office of Management and Budget's (OMB) approval for an existing collection of information. The information collection is entitled NRC Form 314, “Certificate of Disposition of Materials.” The NRC Form 314 is submitted by a materials licensee who wishes to terminate its license. The form provides information needed by the NRC to determine whether the licensee has radioactive materials on hand which must be transferred or otherwise disposed of prior to expiration or termination of the license.

DATES: Submit comments by September 19, 2016. Comments received after this date will be considered if it is practical to do so, but the Commission is able to ensure consideration only for comments received on or before this date.

ADDRESSES: You may submit comments by any of the following methods:

• Federal Rulemaking Web site: Go to http://www.regulations.gov and search for Docket ID NRC-2016-0132. Address questions about NRC dockets to Carol Gallagher; telephone: 301-415-3463; email: Carol.Gallagher@nrc.gov. For technical questions, contact the individual listed in the FOR FURTHER INFORMATION CONTACT section of this document.

• Mail comments to: David Cullison, Office of the Chief Information Officer, Mail Stop: T-5 F53, U.S. Nuclear Regulatory Commission, Washington, DC 20555-0001.

For additional direction on obtaining information and submitting comments, see “Obtaining Information and Submitting Comments” in the SUPPLEMENTARY INFORMATION section of this document.

FOR FURTHER INFORMATION CONTACT: David Cullison, Office of the Chief Information Officer, U.S. Nuclear Regulatory Commission, Washington, DC 20555-0001; telephone: 301-415-2084; email: INFOCOLLECTS.Resource@NRC.GOV.

SUPPLEMENTARY INFORMATION:

I. Obtaining Information and Submitting Comments

A. Obtaining Information

Please refer to Docket ID NRC-2016-0132 when contacting the NRC about the availability of information for this action. You may obtain publicly-available information related to this action by any of the following methods:

• Federal rulemaking Web site: Go to http://www.regulations.gov and search for Docket ID NRC-2016-0132.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. A copy of the collection of information and related instructions may be obtained without charge by accessing ADAMS Accession No. ADAMS ML16130A184. The supporting statement and NRC Form 314, “Certificate of Disposition of Materials,” is available in ADAMS under Accession No. ADAMS ML16130A186.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: INFOCOLLECTS.Resource@NRC.GOV.

B. Submitting Comments

Please include Docket ID NRC-2016-0132 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

In accordance with the Paperwork Reduction Act of 1995 (44 U.S.C. Chapter 35), the NRC is requesting public comment on its intention to request OMB's approval for the information collection summarized below.

1. The title of the information collection: NRC Form 314, “Certificate of Disposition of Materials.”

2. OMB approval number: OMB approval number 3150-0028.

3. Type of submission: Extension.

4. The form number, if applicable: NRC Form 314, “Certificate of Disposition of Materials.”

5. How often the collection is required or requested: NRC Form 314 is submitted by a materials licensee who wishes to terminate its license. The form provides information needed by the NRC to determine whether the licensee has radioactive materials on hand which must be transferred or otherwise disposed of prior to expiration or termination of the license.

6. Who will be required or asked to respond: Respondents are firms, institutions, and individuals holding NRC licenses to possess and use radioactive materials who do not wish to renew those licenses.

7. The estimated number of annual responses: 136 responses.

8. The estimated number of annual respondents: 136 respondents.

9. The estimated number of hours needed annually to comply with the information collection requirement or request: Each form requires, on average, approximately 0.5 hours to prepare. 136 × 0.5 hour = a total annual burden for all respondents of 68 hours.

10. Abstract: The NRC Form 314 furnishes information to the NRC regarding transfer or other disposition of radioactive material by licensees who wish to terminate their licenses. The information is used by the NRC as part of the basis for its determination that the facility has been cleared of radioactive material before the facility is released for unrestricted use.

III. Specific Requests for Comments

The NRC is seeking comments that address the following questions:

1. Is the proposed collection of information necessary for the NRC to properly perform its functions? Does the information have practical utility?

2. Is the estimate of the burden of the information collection accurate?

3. Is there a way to enhance the quality, utility, and clarity of the information to be collected?

4. How can the burden of the information collection on respondents be minimized, including the use of automated collection techniques or other forms of information technology?

Dated at Rockville, Maryland, this 13th day of July 2016.
For the Nuclear Regulatory Commission.
David Cullison,
NRC Clearance Officer, Office of the Chief Information Officer.

[FR Doc. 2016-16955 Filed 7-18-16; 8:45 am]

BILLING CODE 7590-01-P